DEPARTMENT OF DEFENSE

Department of the Air Force

Air University Board of Visitors

AGENCY: Department of the Air Force, DoD.

ACTION: Notice of meeting

SUMMARY: The Air University Board of Visitors will hold an open meeting at Maxwell Air Force Base, Alabama (5 seats available). The purpose of the meeting is to give the board an opportunity to review Air University educational programs and to present to the Commander, a report of their findings and recommendations concerning these programs.

DATES: April 14-17, 2002.

ADDRESSES: Air University Commander's Conference Room at Headquarters Air University, Maxwell Air Force Base, Alabama.

FOR FURTHER INFORMATION CONTACT: Dr. Dorothy Reed, Chief of Academic Affairs, Air University Headquarters, Maxwell Air Force Base, Alabama 36112-6335, telephone (334) 953-5159.

Pamela D. Fitzgerald,
Air Force Federal Register Liaison Officer.

[FR Doc. 02-4886 Filed 2-28-02; 8:45 am]

BILLING CODE 5001-05-P